DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 7, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: FNS Quick Response Surveys (QRS).

OMB Control Number: 0584-0613.

Summary of Collection: This information collection request is for a revision to the currently approved Special Nutrition Programs Quick Response Surveys (SNP QRS). This revision makes some changes to the information collection as previously approved. The Food and Nutrition Service (FNS) intends to request the renewal of a generic clearance that allows FNS to conduct short, quick-turnaround surveys of State, local, and Tribal agencies and businesses that receive food, funds, and nutrition information through programs administered by FNS. Section 28 (42 U.S.C. 1769i) of the Richard B. Russell National School Lunch Act (as amended through Pub. L. 113-79, enacted February 07, 2014, sec. 28) mandates programs under its authorization, including the Child Nutrition programs and WIC, to cooperate with USDA program research and evaluation activities. This generic clearance also enables FNS to better meet the goals of Executive Order 14058, Transforming Federal Customer Experience and Service Delivery to Rebuild Trust in Government, by allowing FNS to expeditiously gather information from program operators to improve and refine customer experience and service delivery.

Need and Use of the Information: This collection is necessary to collect and analyze specific information from State and local administrators of FNS Nutrition Assistance Programs in a timely way. Traditionally, FNS conducts large, program-specific studies to collect information on numerous features of each program. Such studies often take several years to complete. The quick response surveys (QRS) provide a mechanism for succinct, quick-turnaround studies to complement the larger FNS studies and to answer policy and implementation questions that result from the larger studies. The FNS QRS information collection enables FNS to administer the programs more effectively by facilitating rapid collection of current information on specific and time-sensitive topics.

Description of Respondents: State, Local and Tribal Governments, Businesses.

Number of Respondents: 58,878.

Frequency of Responses: Reporting: On Occasion.

Total Burden Hours: 27,406.

Rachelle Ragland-Greene,
Acting Departmental Information Collection Clearance Officer.

[FR Doc. 2024-09997 Filed 5-7-24; 8:45 am]

BILLING CODE 3410-30-P